DEPARTMENT OF JUSTICE

Notice of Lodging of Consent Decree Pursuant to the Comprehensive Environmental Response Compensation and Liability Act (“CERCLA”)

Notice is hereby given that on July 21, 2009, a proposed Consent Decree in United States v. Detrex et al., No. 09-5442RBL, was lodged with the United States District Court for the Western District of Washington.

In this action, the United States sought the recovery of response costs pursuant to section 107(a) of the Comprehensive Environmental Response, Compensation, and Recovery Act, 42 U.S.C. 9607(a), incurred at the Hylebos Waterway Problem Areas of OU1 of the Commencement Bay Nearshore/Tideflats Superfund Site in the City of Tacoma, Washington (“Hylebos Waterway Problem Areas”). The defendants, all of whom signed the Consent Decree, are: Detrex Corporation, Goodrich Corporation on behalf of Lubrizol Advanced Materials FCC, Inc. and Noveon Kalama, Inc., Mr. Donald Oline, Portac, Inc. and Weyerhaeuser Company.

Pursuant to the proposed Consent Decree, the Settling Defendants will pay to the United States $2,330,938 in reimbursement of past and future response costs incurred by the United States with respect to the Hylebos Waterway Problem Areas. The proposed Consent Decree provides the Settling Defendants with a covenant not to sue pursuant to Sections 106 and 107 of CERCLA, 42 U.S.C. 9606 and 9607.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Detrex et. al., (W.D. Wash.) No. 09-5442RBL, D.J. Ref. 90-11-3-09454/1. The Consent Decree may be examined at the Office of the United States Attorney, Western District of Washington, Office of the United States Attorney for the Western District of Washington, 5200 United States Courthouse, 700 Stewart Street, Seattle, WA 98101-1271. During the public comment period, the Consent Decree may also be examined on the following Department of Justice Web site, http://www.usdoj.gov/enrd/Consent_Decree.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the United States Treasury or, if requesting by e-mail or fax, forward a check in that amount to the Consent Decree Library at the stated address.

Maureen Katz,
Assistant Section Chief, Environmental Enforcement Section, Environment and Natural Resources Division.

[FR Doc. E9-17803 Filed 7-24-09; 8:45 am]

BILLING CODE 4410-15-P